DEPARTMENT OF ENERGY

Federal Energy Regulatory Commission

[Project No. 2082-062; Project No. 14803-000]

PacifiCorp, Klamath River Renewal Corporation; Notice of Teleconference for Tribal Consultation Meeting

a. Project Names and Numbers: Klamath and Lower Klamath Hydroelectric Projects No. 2082 and 14803.

b. Project licensee: PacifiCorp and Klamath River Renewal Corporation.

c. Date and Time of Teleconference: Monday, February 5, 2018, from 11:00 a.m. to 1:00 p.m. Eastern Standard Time.

d. FERC Contact: Jennifer Polardino, (202) 502-6437 or jennifer.polardino@ferc.gov.

e. Purpose of Meeting: Commission staff will hold a teleconference with the Modoc Tribe to discuss PacifiCorp and the Klamath River Renewal Corporation's (Renewal Corporation) application to amend the existing Klamath Project No. 2082 to administratively remove the J.C. Boyle, Copco No. 1, Copco No. 2, and Iron Gate developments from the license and create a new project, the Lower Klamath Project No. 14803, for those developments. The applicants also request the Lower Klamath Project be transferred to the Renewal Corporation which, if the Commission were to approve its surrender application in a separate proceeding, would then surrender the project license and remove the above four developments.

f. Members of the public and intervenors in the referenced proceedings may attend the teleconference; however, participation will be limited to tribal representatives of the Modoc Tribe and the Commission's representatives. If the Modoc Tribe decides to disclose information about a specific location which could create a risk or harm to an archaeological site or Native American cultural resource, the public will be excused for that portion of the meeting when such information is disclosed. The teleconference meeting will be transcribed by a court reporter and the transcript will be placed in the public record of these proceedings. Please call or email Jennifer Polardino at (202) 502-6437 or jennifer.polardino@ferc.gov by Monday, January 29, 2018, to RSVP and to receive the teleconference call-in information.

Dated: January 18, 2018.
Nathaniel J. Davis, Sr.,
Deputy Secretary.

[FR Doc. 2018-01252 Filed 1-23-18; 8:45 am]

BILLING CODE 6717-01-P